DEPARTMENT OF COMMERCE

National Oceanic and Atmospheric Administration

RIN 0648-XT68

North Pacific Fishery Management Council; Public Meeting

AGENCY: National Marine Fisheries Service (NMFS), National Oceanic and Atmospheric Administration (NOAA), Commerce.

ACTION: Notice of public meetings of the North Pacific Fishery Management Council Ecosystem Committee.

SUMMARY: The North Pacific Fishery Management Council (Council) Aleutian Islands Fishery Ecosystem Plan Team (AI Ecosystem Team) will meet in Seattle, WA, in the NMML conference room (room 2039), from 9 a.m. to 5 p.m., January 27-28, 2010. The Council's Ecosystem Committee will meet jointly with the AI Ecosystem Team on January 28 from 1 p.m. to 5 p.m.

DATES: The meetings will be held on January 27-28, 2010.

ADDRESSES: The meetings will be held at the Atlantic Fisheries Science Center (AFSC), 7600 Sand Point Way NE, Building 4, NMML conference room (room 2039), Seattle, WA.

Council address: North Pacific Fishery Management Council, 605 W. 4th Ave., Suite 306, Anchorage, AK 99501-2252.

FOR FURTHER INFORMATION CONTACT: Diana Evans, Council staff, telephone: (907) 271-2809.

SUPPLEMENTARY INFORMATION: The agenda is as follows:

AI Ecosystem Team agenda (January 27-28):

Review new information on AI ecosystem; Review FEP interactions and update as appropriate; Plan for further updates and amendments to the FEP.

Joint Ecosystem Committee and AI Ecosystem Team agenda (January 28, 1-5 p.m.):

Discuss AI Fishery Ecosystem Plan updates, and further action; Discuss NOAA's marine spatial planning framework, and provide recommendations for the Council.

The Agenda is subject to change, and the latest version will be posted at http://www.alaskafisheries.noaa.gov/npfmc/

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 7, 2010.
Tracey L. Thompson,
Acting Director, Office of Sustainable Fisheries, National Marine Fisheries Service.

[FR Doc. 2010-401 Filed 1-12-10; 8:45 am]

BILLING CODE 3510-22-S